DEPARTMENT OF COMMERCE

International Trade Administration

[A-570-967]

Aluminum Extrusions From the People's Republic of China: Preliminary Results of Antidumping Duty Administrative Review and Rescission of Review in Part; 2015-2016

AGENCY: Enforcement and Compliance, International Trade Administration, Department of Commerce.

SUMMARY: The Department of Commerce (the Department) is conducting an administrative review of the antidumping duty (AD) order on aluminum extrusions from the People's Republic of China (PRC). The period of review (POR) is May 1, 2015, through April 30, 2016. These preliminary results cover 191 companies and the PRC-wide entity for which an administrative review was initiated. The PRC-wide entity did not respond to the Department's initial quantity and value questionnaires (Q&Vs), and therefore the Department is preliminarily applying adverse facts available (AFA) to the PRC-wide entity. The Department selected the following companies as mandatory respondents: Kam Kiu Aluminium Products Sdn. Bhd. (Kam Kiu) and tenKsolar (Shanghai) Co., Ltd. (tenKsolar). The Department preliminarily determines that Kam Kiu did not demonstrate eligibility for a separate rate and is, therefore, part of the PRC-wide entity. The Department further preliminarily determines that because we lack sufficient record information to allow the Department to calculate a margin for tenKsolar's reported sales of subject merchandise into the United States during the POR, the rate applied to tenKsolar's merchandise upon entry continues to be the AD rate applied to tenKsolar, except to adjust for countervailable duty (CVD) subsidies determined under the parallel aluminum extrusions CVD order. If these preliminary results are adopted in the final results of this review, we will instruct U.S. Customs and Border Protection (CBP) to assess antidumping duties on all appropriate entries. Interested parties are invited to comment on these preliminary results.

DATES: Effective June 6, 2017.

FOR FURTHER INFORMATION CONTACT: Deborah Scott or Mark Flessner, AD/CVD Operations, Office VI, Enforcement and Compliance, International Trade Administration, Department of Commerce, 1401 Constitution Avenue NW., Washington, DC 20230; telephone: (202) 482-2657 or (202) 482-6312, respectively.

SUPPLEMENTARY INFORMATION:

Background

On July 7, 2016, the Department published the notice of initiation of the administrative review of the AD order on aluminum extrusions from the PRC ¹ for the period May 1, 2015, through April 30, 2016, covering 191 companies and the PRC-wide entity.²

¹ See Aluminum Extrusions from the People's Republic of China: Antidumping Duty Order, 76 FR 30650 (May 26, 2011) (the Order).

² See Initiation of Antidumping and Countervailing Duty Administrative Reviews, 81 FR 44260 (July 7, 2016) (Initiation Notice).

For a complete description of the events that followed the initiation of this administrative review, see the Preliminary Decision Memorandum.³ The Preliminary Decision Memorandum is a public document and is on file electronically via Enforcement and Compliance's AD and CVD Centralized Electronic Service System (ACCESS). ACCESS is available to registered users at https://access.trade.gov, and to all parties in the Central Records Unit, room B8024 of the main Department of Commerce building. In addition, a complete version of the Preliminary Decision Memorandum can be accessed directly on the Internet at http://enforcement.trade.gov/frn/. The signed and the electronic versions of the Preliminary Decision Memorandum are identical in content. A list of topics included in the Preliminary Decision Memorandum is included as Appendix I to this notice.

³ See Memorandum, “Decision Memorandum for Preliminary Results of Antidumping Duty Administrative Review: Aluminum Extrusions from the People's Republic of China; 2015-2016,” dated concurrently with, and hereby adopted by, this notice (Preliminary Decision Memorandum).

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁴

⁴ See Preliminary Decision Memorandum for a complete description of the scope of the Order.

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Extension of Deadlines for Preliminary Results

On January 3, 2017, the Department extended the period of time for issuing the preliminary results of this review until May 11, 2017.⁵ On May 5, 2017, the Department again extended the period of time for issuing the preliminary results of this review until May 31, 2017.⁶

⁵ See Memorandum, “Aluminum Extrusions from the People's Republic of China: Extension of Deadline for Preliminary Results of Antidumping Duty Administrative Review,” dated January 3, 2017.

⁶ See Memorandum, “Aluminum Extrusions from the People's Republic of China: Additional Extension of Deadline for Preliminary Results of Antidumping Duty Administrative Review,” dated May 5, 2017.

Rescission of Administrative Review in Part

Pursuant to 19 CFR 351.213(d)(1), based on the timely withdrawal of the requests for review, we are partially rescinding this administrative review with respect to 181 of the 191 companies named in the Initiation Notice.⁷ See Appendix II for a list of these companies.⁸

⁷ See Initiation Notice, 81 FR at 44262-44265.

⁸ See Preliminary Decision Memorandum for further details.

Methodology

The Department is conducting this review in accordance with section 751(a)(1)(B) of the Act. For a full description of the methodology underlying our preliminary results, see the Preliminary Decision Memorandum.

Preliminary Determination Regarding tenKsolar's Reported Sales

Based on information submitted by tenKsolar, we preliminarily find that we lack sufficient record information to allow the Department to calculate a margin for tenKsolar's reported sales of subject merchandise during the POR.⁹ Accordingly, we preliminarily determine that the rate which should be applied to tenKsolar is the AD rate applied to its merchandise upon entry. Consistent with our practice in non-market economy (NME) cases, the Department is not rescinding this review with respect to tenKsolar, but intends to complete the review of tenKsolar and issue appropriate instructions to CBP based on the final results of this review.¹⁰

⁹ See Preliminary Decision Memorandum, at 10-12.

¹⁰ See Non-Market Economy Antidumping Proceedings: Assessment of Antidumping Duties, 76 FR 65694, 65695 (October 24, 2011).

Separate Rates

In the Initiation Notice, we informed parties of the opportunity to request a separate rate.¹¹ In proceedings involving NME countries, the Department begins with a rebuttable presumption that all companies within the NME country are subject to government control and, thus, should be assigned a single weighted-average dumping margin. It is the Department's policy to assign all exporters of merchandise subject to an administrative review involving an NME country this single rate unless an exporter can demonstrate that it is sufficiently independent so as to be entitled to a separate rate. Companies that wanted to be considered for a separate rate in this review were required to timely file a separate rate application (SRA) or a separate rate certification (SRC) to demonstrate their eligibility for a separate rate. SRAs and SRCs were due to the Department within 30 calendar days of the publication of the Initiation Notice.¹²

¹¹ See Initiation Notice, 81 FR at 44261-2.

¹² Id.

Mandatory respondent Kam Kiu submitted a SRC,¹³ but did not respond to any section of the Department's antidumping questionnaire; instead, Kam Kiu withdrew from active participation as a mandatory respondent.¹⁴ Accordingly, the Department cannot analyze or verify the veracity of Kam Kiu's claims of being separate from the PRC-wide entity for purposes of its export activities. As a result, we preliminarily determine that Kam Kiu did not demonstrate its eligibility for a separate rate in this review.¹⁵ Mandatory respondent tenKsolar submitted a SRC,¹⁶ as well as timely responses to each section of the Department's antidumping questionnaire to which it was required to submit a response.¹⁷ Based on the information on the record, we preliminarily determine that tenKsolar demonstrated its eligibility for a separate rate in this review.

¹³ See Kam Kiu Letter re: Aluminum Extrusions from the People's Republic of China: Separate Rate Certification, dated August 3, 2016.

¹⁴ See Kam Kiu Letter re: Aluminum Extrusions from the People's Republic of China: Withdrawal as a Mandatory Respondent, dated February 14, 2017.

¹⁵ See Initiation Notice, 81 FR at 44262 (“For exporters and producers who submit a separate-rate status application or certification and subsequently are selected as mandatory respondents, these exporters and producers will no longer be eligible for separate rate status unless they respond to all parts of the questionnaire as mandatory respondents.”).

¹⁶ See tenKsolar Letter re: Aluminum Extrusions from the People's Republic of China: Separate Rate Certification, dated August 3, 2016.

¹⁷ See tenKsolar Letter re: Aluminum Extrusions from the People's Republic of China: Section A Questionnaire Response, dated February 23, 2017; see also tenKsolar Letter re: Aluminum Extrusions from the People's Republic of China: Section C and D Questionnaire Response, dated March 9, 2017.

The Department did not receive a SRA or SRC from any of the other entities remaining under review. As a result, we preliminarily determine that the following entities are not eligible for a separate rate in this administrative review: (1) Atlas Integrated Manufacturing Ltd.; (2) Classic & Contemporary Inc.; (3) Dongguan Golden Tiger Hardware Industrial Co., Ltd.; (4) Jiaxing Jackson Travel Products Co., Ltd.; (5) Taishan City Kam Kiu Aluminium Extrusion Co., Ltd.; (6) Shenyang Yuanda Aluminium Industry Engineering Co. Ltd.; (7) Sincere Profit Limited; and (8) Suzhou New Hongji Precision Part Co.¹⁸

¹⁸ See Preliminary Decision Memorandum at 14.

Application of Adverse Facts Available

The Department preliminarily determines that the use of facts otherwise available is warranted with respect to the PRC-wide entity, in accordance with sections 776(a)(2)(A) and (C) of the Act. The Department issued a Q&V questionnaire to the PRC-wide entity on December 2, 2016; ¹⁹ however, the PRC-wide entity did not respond to the Department's Q&V questionnaire. As a result, we preliminarily find that the PRC-wide entity withheld necessary information that was requested by the Department, significantly impeding the proceeding.

¹⁹ See Department Letter to Liu Fang, First Secretary, Embassy of the People's Republic of China, dated December 2, 2016. See also Memorandum, “Antidumping Duty Order on Aluminum Extrusions from the People's Republic of China: Issuance of Quantity and Value Questionnaire to the PRC-wide Entity,” dated December 8, 2016 (containing Federal Express shipment and delivery confirmation).

Further, pursuant to section 776(b) of the Act, the Department preliminarily determines that, because the PRC-wide entity failed to cooperate by not acting to the best of its ability to comply with the Department's requests for information, an adverse inference is warranted.

PRC-Wide Entity

We preliminarily find that the following entities are part of the PRC-wide entity in this administrative review because they failed to submit a Q&V response, a SRA, a SRC, or (in the case of Kam Kiu) were selected as a mandatory respondent and failed to respond to the AD questionnaire: (1) Kam Kiu; (2) Atlas Integrated Manufacturing Ltd.; (3) Classic & Contemporary Inc.; (4) Dongguan Golden Tiger Hardware Industrial Co., Ltd.; (5) Jiaxing Jackson Travel Products Co., Ltd.; (6) Taishan City Kam Kiu Aluminium Extrusion Co., Ltd.; (7) Shenyang Yuanda Aluminium Industry Engineering Co. Ltd.; (8) Sincere Profit Limited; and (9) Suzhou New Hongji Precision Part Co.

The Department's change in policy regarding conditional review of the PRC-wide entity applies to this administrative review.²⁰ Under this policy, the PRC-wide entity will not be under review unless a party specifically requests, or the Department self-initiates, a review of the entity. The petitioner ²¹ requested a review of the PRC-wide entity in the instant review; therefore, the PRC-wide entity is currently under review.

²⁰ See Antidumping Proceedings: Announcement of Change in Department Practice for Respondent Selection in Antidumping Duty Proceedings and Conditional Review of the Nonmarket Economy Entity in NME Antidumping Duty Proceedings, 78 FR 65963, 65970 (November 4, 2013).

²¹ The petitioner is the Aluminum Extrusions Fair Trade Committee, composed of the following members: Aerolite Extrusion Company; Alexandria Extrusion Company; William L. Bonnell Company, Inc.; Frontier Aluminum Corporation; Futura Industries Corporation; Hydro Aluminum North America, Inc.; Kaiser Aluminum Corporation; Profile Extrusion Company; Sapa Extrusions, Inc.; and Western Extrusions Corporation.

Adjustments for Countervailable Subsidies

Because no mandatory respondent established eligibility for an adjustment under section 777A(f) of the Act for countervailable domestic subsidies, for these preliminary results, the Department did not make an adjustment pursuant to section 777A(f) of the Act for countervailable domestic subsidies for the separate-rate recipients.

Pursuant to section 772(c)(1)(C) of the Act, we made an adjustment for countervailable export subsidies for tenKsolar. We calculated this adjustment as the simple average of the countervailable export subsidies determined for the mandatory respondents in the 2014 (i.e., most recently completed) CVD administrative review ²² and deducted this amount from the weighted-average dumping margin assigned to tenKsolar. ²³ The adjusted rate for tenKsolar is 85.96 percent.

²² Aluminum Extrusions from the People's Republic of China: Final Results and Partial Rescission of Countervailing Duty Administrative Review; 2014, 81 FR 92778 (December 20, 2016).

²³ See Preliminary Decision Memorandum, at 12 and 17-18.

Pursuant to section 772(c)(1)(C) of the Act, we also made an adjustment for countervailable export subsidies for the PRC-wide entity. We adjusted the PRC-wide entity cash deposit rate by the lowest countervailable export subsidy determined for the mandatory respondents in the 2014 (i.e., most recently completed) CVD administrative review.²⁴

²⁴ See Preliminary Decision Memorandum.

Preliminary Results of Review

The Department preliminarily determines that the following weighted-average dumping margins exist for the 2015-2016 POR:

Exporter | Weighted- average dumping margin (percent) | Margin adjusted for liquidation and cash deposit purposes (percent)
tenKsolar (Shanghai) Co., Ltd. | 86.01 | 85.96
PRC-wide Entity | 86.01 | 85.96

Additionally, as explained above, the Department preliminarily determines that the following companies are part of the PRC-wide entity: (1) Kam Kiu; (2) Atlas Integrated Manufacturing Ltd.; (3) Classic & Contemporary Inc.; (4) Dongguan Golden Tiger Hardware Industrial Co., Ltd.; (5) Jiaxing Jackson Travel Products Co., Ltd.; (6) Taishan City Kam Kiu Aluminium Extrusion Co., Ltd.; (7) Shenyang Yuanda Aluminium Industry Engineering Co. Ltd.; (8) Sincere Profit Limited; and (9) Suzhou New Hongji Precision Part Co.

Disclosure and Public Comment

Normally, the Department discloses to interested parties the calculations performed in connection with its preliminary results within five days of its public announcement or, if there is no public announcement, within five days of the date of publication of this notice in accordance with 19 CFR 351.224(b). However, because the Department did not calculate weighted-average dumping margins for either of the individually examined companies, Kam Kiu and tenKsolar, in this review, nor for the PRC-wide entity, there are no calculations to disclose.

Interested parties may submit case briefs no later than 30 days after the date of publication of these preliminary results of review.²⁵ Rebuttal briefs, limited to issues raised in the case briefs, may be filed no later than five days after the case briefs are filed.²⁶ Parties who submit arguments are requested to submit with the argument (a) a statement of the issue, (b) a brief summary of the argument, and (c) a table of authorities.²⁷

²⁵ See 19 CFR 351.309(c)(1)(ii).

²⁶ See 19 CFR 351.309(d).

²⁷ See 19 CFR 351.309(c)(2) and (d)(2).

Any interested party may request a hearing within 30 days of publication of this notice.²⁸ Hearing requests should contain the following information: (1) The party's name, address, and telephone number; (2) the number of participants; and (3) a list of the issues to be discussed. Oral presentations will be limited to issues raised in the case and rebuttal briefs. If a request for a hearing is made, parties will be notified of the time and date for the hearing to be held at the U.S. Department of Commerce, 1401 Constitution Avenue NW., Washington, DC 20230.²⁹

²⁸ See 19 CFR 351.310(c).

²⁹ See 19 CFR 351.310(d).

All submissions, with limited exceptions, must be filed electronically using ACCESS.³⁰ An electronically filed document must be received successfully in its entirety by the Department's electronic records system, ACCESS, by 5 p.m. Eastern Time (ET) on the due date. Documents excepted from the electronic submission requirements must be filed manually (i.e., in paper form) with the APO/Dockets Unit in Room 18022 and stamped with the date and time of receipt by 5 p.m. ET on the due date.³¹

³⁰ See generally 19 CFR 351.303.

³¹ See Antidumping and Countervailing Duty Proceedings: Electronic Filing Procedures; Administrative Protective Order Procedures, 76 FR 39263 (July 6, 2011).

Unless otherwise extended, the Department intends to issue the final results of this administrative review, which will include the results of our analysis of all issues raised in the case briefs, within 120 days of publication of these preliminary results in the Federal Register, pursuant to section 751(a)(3)(A) of the Act.

Assessment Rates

Upon issuance of the final results of this review, the Department will determine, and CBP shall assess, antidumping duties on all appropriate entries covered by this review.³² The Department intends to issue assessment instructions to CBP 15 days after publication of the final results of this review.

³² See 19 CFR 351.212(b)(1).

We intend to instruct CBP to liquidate entries containing subject merchandise exported by the PRC-wide entity at the PRC-wide rate. Additionally, if the Department determines that an exporter under review had no shipments of the subject merchandise, any suspended entries that entered under that exporter's case number will be liquidated at the PRC-wide rate.³³

³³ See Non-Market Economy Antidumping Proceedings: Assessment of Antidumping Duties, 76 FR 65694 (October 24, 2011).

For the companies for which this review is rescinded, antidumping duties shall be assessed at rates equal to the cash deposit of estimated antidumping duties required at the time of entry, or withdrawal from warehouse, for consumption, in accordance with 19 CFR 351.212(c)(1)(i). We will instruct CBP accordingly.

Cash Deposit Requirements

The following cash deposit requirements for estimated antidumping duties, when imposed, will apply to all shipments of subject merchandise from the PRC entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except, if that rate is de minimis, then the cash deposit rate will be zero); (2) for any previously investigated or reviewed PRC and non-PRC exporters that are not under review in this segment of the proceeding but that received a separate rate in the most recently completed segment of this proceeding, the cash deposit rate will continue to be the exporter-specific rate published for the most recently completed segment of this proceeding; (3) for all PRC exporters of subject merchandise that have not been found to be entitled to a separate rate, the cash deposit rate will be that for the PRC-wide entity; (4) for the PRC-wide entity, the cash deposit rate will be 85.96 percent; ³⁴ and (5) for all non-PRC exporters of subject merchandise which have not received their own rate, the cash deposit rate will be the rate applicable to the PRC exporter that supplied that non-PRC exporter.

³⁴ This rate is adjusted for export subsidies.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing notice of these preliminary results in accordance with sections 751(a)(1) and 777(i)(1) of the Act and 19 CFR 351.221(b)(4).

Dated: May 31, 2017.
Ronald K. Lorentzen,
Acting Assistant Secretary for Enforcement and Compliance.

Appendix I

List of Topics Discussed in the Preliminary Decision Memorandum:

I. Summary

II. Background

III. Scope of the Order

IV. Respondent Selection

V. Rescission of Administrative Review in Part

VI. Preliminary Determination Regarding tenKsolar's Reported Sales

VII. NME Country

VIII. Separate Rates

IX. PRC-Wide Entity

X. Application of Facts Available and Use of Adverse Inference

XI. The PRC-Wide Entity

XII. Adjustments for Countervailable Subsidies

XIII. Conclusion

Appendix II

Companies for Which This Administrative Review Is Being Rescinded

1. Acro Import and Export Co.

2. Activa International Inc.

3. Allied Maker Limited

4. Alnan Aluminium Co., Ltd.

5. Aluminicaste Fundicion de Mexico

6. AMC Ltd.

7. Belton (Asia) Development Ltd.

8. Birchwoods (Lin'an) Leisure Products Co., Ltd.

9. Bolnar Hong Kong Ltd.

10. Bracalente Metal Products (Suzhou) Co., Ltd.

11. Changshu Changshen Aluminium Products Co., Ltd.

12. Changzhou Changzheng Evaporator Co., Ltd.

13. Changzhou Tenglong Auto Parts Co., Ltd.

14. China Square

15. China Square Industrial Co.

16. China Zhongwang Holdings, Ltd.

17. Chiping One Stop Industrial & Trade Co., Ltd.

18. Clear Sky Inc.

19. Cosco (J.M.) Aluminium Co., Ltd.

20. Dalian Huacheng Aquatic Products

21. Dalian Liwang Trade Co., Ltd.

22. Danfoss Micro Channel Heat Exchanger (Jia Xing) Co., Ltd.

23. Dongguan Aoda Aluminum Co., Ltd.

24. Dongguan Dazhan Metal Co., Ltd.

25. Dragonluxe Limited

26. Dynabright Int'l Group (HK) Limited

27. Dynamic Technologies China Ltd.

28. Ever Extend Ent. Ltd.

29. Fenghua Metal Product Factory

30. First Union Property Limited

31. FookShing Metal & Plastic Co. Ltd.

32. Foreign Trade Co. of Suzhou New & High-Tech Industrial Development Zone

33. Foshan City Nanhai Hongjia Aluminum Alloy Co., Ltd.

34. Foshan Golden Source Aluminum Products Co., Ltd.

35. Foshan Guangcheng Aluminium Co., Ltd.

36. Foshan Jinlan Aluminum Co. Ltd.

37. Foshan JMA Aluminum Company Limited

38. Foshan Sanshui Fenglu Aluminium Co., Ltd.

39. Foshan Shunde Aoneng Electrical Appliances Co., Ltd.

40. Foshan Yong Li Jian Aluminum Co., Ltd.

41. Fujian Sanchuan Aluminum Co., Ltd.

42. Fuzhou Sunmodo New Energy Equipment

43. Genimex Shanghai, Ltd.

44. Global PMX Dongguan Co., Ltd.

45. Global Point Technology (Far East) Limited

46. Gold Mountain International Development Limited

47. Golden Dragon Precise Copper Tube Group, Inc.

48. Gran Cabrio Capital Pte. Ltd.

49. Gree Electric Appliances

50. GT Capital Pte. Ltd.

51. Guang Ya Aluminium Industries (Hong Kong) Ltd.

52. Guang Ya Aluminium Industries Co., Ltd.

53. Guangdong Hao Mei Aluminium Co., Ltd.

54. Guangdong Jianmei Aluminum Profile Company Limited

55. Guangdong JMA Aluminum Profile Factory (Group) Co., Ltd.

56. Guangdong Nanhai Foodstuffs Imp. & Exp. Co., Ltd.

57. Guangdong Weiye Aluminum Factory Co., Ltd.

58. Guangdong Whirlpool Electrical Appliances Co., Ltd.

59. Guangdong Xingfa Aluminium Co., Ltd.

60. Guangdong Xin Wei Aluminum Products Co., Ltd.

61. Guangdong Yonglijian Aluminum Co., Ltd.

62. Guangdong Zhongya Aluminum Company Limited

63. Guangzhou Jangho Curtain Wall System Engineering Co., Ltd.

64. Guangzhou Mingcan Die-Casting Hardware Products Co., Ltd.

65. Hangzhou Xingyi Metal Products Co., Ltd.

66. Hanwood Enterprises Limited

67. Hanyung Alcoba Co., Ltd.

68. Hanyung Alcobis Co., Ltd.

69. Hanyung Metal (Suzhou) Co., Ltd.

70. Hao Mei Aluminum Co., Ltd.

71. Hao Mei Aluminum International Co., Ltd.

72. Hebei Xusen Wire Mesh Products Co., Ltd.

73. Henan New Kelong Electrical Appliances Co., Ltd.

74. Hong Kong Gree Electric Appliances Sales Limited

75. Hong Kong Modern Non-Ferrous Metal

76. Honsense Development Company

77. Hui Mei Gao Aluminum Foshan Co., Ltd.

78. IDEX Dinglee Technology (Tianjin) Co., Ltd.

79. IDEX Technology Suzhou Co., Ltd.

80. IDEX Health

81. Innovative Aluminium (Hong Kong) Limited

82. iSource Asia

83. Jackson Travel Products Co., Ltd.

84. Jangho Curtain Wall Hong Kong Ltd.

85. Jiangmen Jianghai District Foreign Economic Enterprise Corp. Ltd.

86. Jiangmen Jianghai Foreign Ent. Gen.

87. Jiangmen Qunxing Hardware Diecasting Co., Ltd.

88. Jiangsu Changfa Refrigeration Co., Ltd.

89. Jiangyin Suncitygaylin

90. Jiangyin Trust International Inc.

91. Jiangyin Xinhong Doors and Windows Co., Ltd.

92. Jiaxing Taixin Metal Products Co., Ltd.

93. Jiuyan Co., Ltd.

94. JMA (HK) Company Limited

95. Justhere Co., Ltd.

96. Kanal Precision Aluminum Product Co., Ltd.

97. Karlton Aluminum Company Ltd.

98. Kong Ah International Company Limited

99. Kromet International, Inc.

100. Kunshan Giant Light Metal Technology Co., Ltd.

101. Liaoning Zhongwang Group Co., Ltd.

102. Liaoyang Zhongwang Aluminum Profile Co. Ltd.

103. Longkou Donghai Trade Co., Ltd.

104. Metaltek Group Co., Ltd.

105. Metaltek Metal Industry Co., Ltd.

106. Midea Air Conditioning Equipment Co., Ltd.

107. Midea International Trading Co., Ltd.

108. Midea International Training Co., Ltd.

109. Miland Luck Limited

110. Nanhai Textiles Import & Export Co., Ltd.

111. New Asia Aluminum & Stainless Steel Product Co., Ltd.

112. New Zhongya Aluminum Factory

113. Nidec Sankyo (Zhejang) Corporation

114. Nidec Sankyo Singapore Pte. Ltd.

115. Ningbo Coaster International Co., Ltd.

116. Ningbo Hi Tech Reliable Manufacturing Company

117. Ningbo Ivy Daily Commodity Co., Ltd.

118. Ningbo Yili Import and Export Co., Ltd.

119. North China Aluminum Co., Ltd.

120. North Fenghua Aluminum Ltd.

121. Northern States Metals

122. PanAsia Aluminium (China) Limited

123. Pengcheng Aluminum Enterprise Inc.

124. Permasteelisa Hong Kong Limited

125. Permasteelisa South China Factory

126. Pingguo Aluminum Company Limited

127. Pingguo Asia Aluminum Co., Ltd.

128. Popular Plastics Co., Ltd.

129. Press Metal International Ltd.

130. Samuel, Son & Co., Ltd.

131. Sanchuan Aluminum Co., Ltd.

132. Shangdong Huasheng Pesticide Machinery Co.

133. Shangdong Nanshan Aluminum Co., Ltd.

134. Shanghai Automobile Air Conditioner Accessories Ltd.

135. Shanghai Canghai Aluminum Tube Packaging Co., Ltd.

136. Shanghai Dongsheng Metal

137. Shanghai Shen Hang Imp & Exp Co., Ltd.

138. Shanghai Tongtai Precise Aluminum Alloy Manufacturing Co., Ltd.

139. Shenzhen Hudson Technology Development Co.

140. Shenzhen Jiuyuan Co., Ltd.

141. Sihui Shi Guo Yao Aluminum Co., Ltd.

142. Skyline Exhibit Systems (Shanghai) Co., Ltd.

143. Southwest Aluminum (Group) Co., Ltd.

144. Suzhou JRP Import & Export Co., Ltd.

145. Tai-Ao Aluminium (Taishan) Co., Ltd.

146. Taizhou Lifeng Manufacturing Co., Ltd.

147. Taizhou Lifeng Manufacturing Corporation, Ltd.

148. Taizhou United Imp. & Exp. Co., Ltd.

149. Tianjin Ganglv Nonferrous Metal Materials Co., Ltd.

150. Tianjin Jinmao Import & Export Corp., Ltd.

151. Tianjin Ruixin Electric Heat Transmission Technology, Ltd.

152. Tianjin Xiandai Plastic & Aluminum Products Co., Ltd.

153. Tiazhou Lifeng Manufacturing Corporation

154. Top-Wok Metal Co., Ltd.

155. Traffic Brick Network, LLC

156. Union Aluminum (SIP) Co.

157. Union Industry (Asia) Co., Ltd.

158. USA Worldwide Door Components (PINGHU) Co., Ltd.

159. Wenzhou Shengbo Decoration & Hardware

160. Whirlpool (Guangdong)

161. Whirlpool Canada L.P.

162. Whirlpool Microwave Products Development Ltd.

163. WTI Building Products, Ltd.

164. Xin Wei Aluminum Co.

165. Xin Wei Aluminum Company Limited

166. Xinya Aluminum & Stainless Steel Product Co., Ltd.

167. Yuyao Fanshun Import & Export Co., Ltd.

168. Yuyao Haoshen Import & Export

169. Zahoqing China Square Industry Limited

170. Zhaoqing Asia Aluminum Factory Company Ltd.

171. Zhaoqing China Square Industrial Ltd.

172. Zhaoqing China Square Industry Limited

173. Zhaoqing New Zhongya Aluminum Co., Ltd.

174. Zhejiang Anji Xinxiang Aluminum Co., Ltd.

175. Zhejiang Yongkang Listar Aluminium Industry Co., Ltd.

176. Zhejiang Zhengte Group Co., Ltd.

177. Zhenjiang Xinlong Group Co., Ltd.

178. Zhongshan Daya Hardware Co., Ltd.

179. Zhongshan Gold Mountain Aluminium Factory Ltd.

180. Zhongya Shaped Aluminium (HK) Holding Limited

181. Zhuhai Runxingtai Electrical Equipment Co., Ltd.

[FR Doc. 2017-11665 Filed 6-5-17; 8:45 am]

BILLING CODE 3510-DS-P